ENVIRONMENTAL PROTECTION AGENCY

[FRL-9739-7]

Notice of Proposed NPDES General Permit; Final NPDES General Permit for New and Existing Sources and New Dischargers in the Offshore Subcategory of the Oil and Gas Extraction Category for the Western Portion of the Outer Continental Shelf of the Gulf of Mexico (GMG290000)

AGENCY: Environmental Protection Agency (EPA).

ACTION: Notice.

SUMMARY: The Director of the Water Quality Protection Division, EPA Region 6 today provides notice that the National Pollutant Discharge Elimination System (NPDES) General Permit No. GMG290000 for existing and new sources and new dischargers in the Offshore Subcategory of the Oil and Gas Extraction Point Source Category, located in and discharging to the Outer Continental Shelf offshore of Louisiana and Texas was reissued on September 28, 2012, with an effective date of October 1, 2012. The discharge of produced water to that portion of the Outer Continental Shelf from Offshore Subcategory facilities located in the territorial seas of Louisiana and Texas is also authorized by this permit.

DATES: This permit was issued September 28, 2012, is effective on October 1, 2012, and expires September 30, 2017. This effective date is necessary to provide dischargers with the immediate opportunity to comply with Clean Water Act requirements in light of the expiration of the 2007 permit on September 30, 2012. In accordance with 40 CFR part 23, this permit shall be considered issued for the purpose of judicial review on October 24, 2012. Under section 509(b) of the CWA, judicial review of this general permit can be held by filing a petition for review in the United States Court of Appeals within 120 days after the permit is considered issued for judicial review. Under section 509(b)(2) of the CWA, the requirements in this permit may not be challenged later in civil or criminal proceedings to enforce these requirements. In addition, this permit may not be challenged in other agency proceedings. Deadlines for submittal of notices of intent are provided in Part I.A.2 of the permit.

FOR FURTHER INFORMATION CONTACT: Ms. Diane Smith, U.S. Environmental Protection Agency, Region 6, 1445 Ross Avenue, Dallas, Texas 75202-2733. Telephone: (214) 655-2145. Email address: smith.diane@epa.gov.

SUPPLEMENTARY INFORMATION: The draft permit was proposed in the Federal Register on March 7, 2012. EPA Region 6 has considered all comments received and makes several significant changes as listed below. A copy of the Region's responses to comments and the final permit may be obtained from the EPA Region 6 internet site: http://www.epa.gov/region6/water/npdes/genpermit/index.htm.

1. Change the deadline to file eNOIs for continuous coverage from 90 days from the effective date of the permit to January 31, 2013;

2. Permit coverage and compliance start when an eNOI is filed;

3. Add characterization study for water-based drilling mud;

4. Allow discharges of hydrate control fluids without toxicity testing requirements for discharges containing methanol up to 20 bbl/event and ethylene glycol up to 200 bbl/event;

5. Change the toxicity re-testing criteria to include increase of critical dilution;

6. Add chlorine and bromine to the exclusion list of toxicity test for chemically treated miscellaneous discharges;

7. Delete the provision of “Alternative to Visual or Remote Inspection” but allow “other monitoring device” to be used for visual or remote inspection;

8. Exclude routine biocide treatment of cooling water intake structure velocity monitoring system from conditions established for chemically treated seawater;

9. Change the entrainment monitoring frequency from monthly to quarterly after the 24-month study period;

10. Change the first NetDMR reporting period end date from October 31, 2013, to December 31, 2013, and change the annual reporting period from October through September to January through December;

11. Allow paper DMR to be submitted within 60 days after the reporting period, if paper DMRs are required;

12. Allow electronic records to be used for inspection purposes; and

13. Allow biocides to be added to sump/drain systems.

Other Legal Requirements

Paperwork Reduction Act. The information collection required by this permit will reduce paperwork significantly by implementation of electronic reporting requirements. EPA is working on an electronic notice of intent (eNOI) system so applicants will file their NOIs online. EPA estimates that it takes 10 to 15 minutes to fill in all information required by the eNOI for each lease block. It also takes much less time to add, delete, or modify eNOI. EPA will also incorporate an electronic discharge monitoring report (NetDMR) requirement in the permit. The time for NetDMR preparation will be much less than that for paper DMR. The electronic filing systems will also significantly reduce the mailing costs.

State certification under section 401 of the CWA; consistency with the Texas Coastal Management Program; and compliance with National Environmental Policy Act, Endangered Species Act, Magnuson-Stevens Fishery Conservation and Management Act, Historic Preservation Act, and Regulatory Flexibility Act requirements are discussed in the Region's responses to comments.

Dated: September 28, 2012.
Wren Stenger,
Acting Deputy Director, Water Quality Protection Division. EPA Region 6.

[FR Doc. 2012-24895 Filed 10-9-12; 8:45 am]

BILLING CODE 6560-50-P